DEPARTMENT OF JUSTICE

[OMB Number 1121-0095]

Agency Information Collection Activities; Proposed eCollection eComments Requested; Reinstatement, With Change, of a Previously Approved Collection: Census of Public Defender Offices

AGENCY: Bureau of Justice Statistics, Department of Justice.

ACTION: 60-Day notice.

SUMMARY: The Department of Justice (DOJ), Bureau of Justice Statistics, will be submitting the following information collection request to the Office of Management and Budget (OMB) for review and approval in accordance with the Paperwork Reduction Act of 1995.

DATES: Comments are encouraged and will be accepted for 60 days until November 12, 2024.

FOR FURTHER INFORMATION CONTACT: If you have additional comments especially on the estimated public burden or associated response time, suggestions, or need a copy of the proposed information collection instrument with instructions or additional information, please contact Ryan Kling, Statistician, Judicial Statistics Unit, Bureau of Justice Statistics, 810 Seventh Street NW, Washington, DC 20531 (email: Ryan.Kling@usdoj.gov; telephone: 202-704-0076).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Reinstatement, with change, of a previously approved collection.

2. The Title of the Form/Collection: Census of Public Defender Offices (CPDO).

3. The agency form number, if any, and the applicable component of the Department sponsoring the collection: Form number(s): The instrument is CPDO-1. The applicable component within the Department of Justice is the Bureau of Justice Statistics (Judicial Statistics Unit), in the Office of Justice Programs.

4. Affected public who will be asked or required to respond, as well as a brief abstract: Respondents will be leaders of public defender offices. The Census of Public Defender Offices (CPDO, OMB Number 1121-0095) is the only national data collection identifying and surveying all public defender offices in the U.S. and Territories since the first iteration of CPDO in 2007 (originally titled Survey of Public Defender Offices 2007). In 2013, the Bureau of Justice Statistics conducted the National Survey of Indigent Defense Systems (OMB Number 1121-0095), expanding its scope to include not only public defender offices but also assigned counsel and contract attorneys. For purposes of this project, public defender offices are eligible for inclusion if they are publicly funded, have a physical address, at least one W-2 earning attorney, and provide direct public defense representation for adults and/or juveniles who are accused of a crime or delinquency or accused in a trial court of violating conditions of a sentence.

After locating all public defender offices in the U.S. within the defined scope, the 2023 CPDO will gather important metrics on public defender office operations from office leaders. Developed in consultation with public defense leaders, the survey includes sections addressing general office operations including expenditures and funding streams, staffing, caseloads, eligibility standards, and office resources.

The 2023 instrument is a combination of questions from the 2007 iteration and new or updated questions reflecting emerging issues in the field of public defense. Retaining historical questions will allow for trend analysis while the newer questions will provide informative data useful for practitioners, researchers and policymakers. Some examples of information provided by the CPDO include:

• Caseloads and case types

• Staff sizes and roles

• Staff attrition

• Staff salary ranges

• Demographics of chief public defender and staff attorneys

• Initial public defender appointment and contact practices

• Case management system capacity

BJS will use the information gathered in CPDO in published reports and statistics. The reports will be made available to the U.S. Congress, Executive Office of the President, practitioners, researchers, students, the media, others interested in criminal justice statistics, and the general public via the BJS website.

5. An estimate of the total number of respondents and the amount of time estimated for an average respondent to respond: BJS will send the survey to approximately 2,000 public defender offices (in 50 states, the District of Columbia and five U.S. Territories). The obligation to respond is voluntary. The expected burden placed on each respondent is about 1 hour.

6. An estimate of the total public burden (in hours) associated with the collection: The total respondent burden is about 1,890 hours. BJS estimates approximately 6% (120) of offices receiving the survey will screen out of the survey due to ineligibility. The burden for out-of-scope entities will be less than 5 minutes.

| Number of public defender offices | Time per survey | Total time (in minutes) | Total burden hours
Out of scope public defender offices | 120 | 5 | 600 | 10 hours (600 mins/60 mins).
In scope public defender offices | 1,880 | 60 | 112,800 | 1,880 hours (112,800 mins/60 mins).
Total | 2,000 |  |  | 1,890 hours.

7. An estimate of the total annual cost burden associated with the collection, if applicable: No costs other than the cost of the hour burden exist for this data collection.

If additional information is required, contact: Darwin Arceo, Department Clearance Officer, Policy and Planning Staff, Justice Management Division, United States Department of Justice, Two Constitution Square, 145 N Street NE, 3E.206, Washington, DC 20530.

Dated: September 5, 2024.
Darwin Arceo,
Department Clearance Officer for PRA, Policy and Planning Staff, Office of the Chief Information Officer, U.S. Department of Justice.

[FR Doc. 2024-20378 Filed 9-9-24; 8:45 am]

BILLING CODE 4410-18-P